DEPARTMENT OF AGRICULTURE

Animal and Plant Health Inspection Service

[Docket No. APHIS-2015-0082]

Notice of Request for Revision to and Extension of Approval of an Information Collection; Importation of Papaya From Colombia and Ecuador

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of papaya from Colombia and Ecuador into the continental United States.

DATES: We will consider all comments that we receive on or before January 4, 2016.

ADDRESSES: You may submit comments by either of the following methods:

• Federal eRulemaking Portal: Go to http://www.regulations.gov/#!docketDetail;D=APHIS-2015-0082.

• Postal Mail/Commercial Delivery: Send your comment to Docket No. APHIS-2015-0082, Regulatory Analysis and Development, PPD, APHIS, Station 3A-03.8, 4700 River Road Unit 118, Riverdale, MD 20737-1238.

Supporting documents and any comments we receive on this docket may be viewed at http://www.regulations.gov/#!docketDetail;D=APHIS-2015-0082 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the importation of papaya from Colombia and Ecuador, contact Mr. Juan (Tony) Román, Senior Regulatory Policy Specialist, RCC, IRM, PHP, PPQ, APHIS, 4700 River Road Unit 156, Riverdale, MD 20737; (301) 851-2242. For copies of more detailed information on the information collection, contact Ms. Kimberly Hardy, APHIS' Information Collection Coordinator, at (301) 851-2727.

SUPPLEMENTARY INFORMATION: Title: Importation of Papaya From Colombia and Ecuador.

OMB Control Number: 0579-0358.

Type of Request: Revision to and extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States. As authorized by the PPA, APHIS regulates the importation of fruits and vegetables into the United States from certain parts of the world as provided in “Subpart—Fruits and Vegetables” (7 CFR 319.56-1 through 319.56-73).

Section 319.56-25 of the regulations provides for the importation of papayas from Central America and South America into the continental United States under specified conditions intended to prevent the introduction of certain quarantine pests. Within this section, there are specific requirements for the importation of papaya from Colombia and Ecuador. Some of these requirements include the use of information collection activities, such as trapping records, grower registration, and a phytosanitary certificate issued by the national plant protection organization (NPPO) of the exporting country with an additional declaration confirming that the papaya have been grown, packed, and shipped in accordance with the regulations.

When comparing the regulations to the information collection activities that were previously approved, we found that we did not account for importers requesting phytosanitary certificates from the NPPO of the exporting country, activities associated with recordkeeping, and grower registrations and the associated reinstatements. By adding these activities to this information collection, the overall estimates of burden have increased.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.3602 hours per response.

Respondents: Importers and growers of papaya and the NPPOs of Colombia and Ecuador.

Estimated annual number of respondents: 158.

Estimated annual number of responses per respondent: 5.88.

Estimated annual number of responses: 930.

Estimated total annual burden on respondents: 335 hours. (Due to averaging, the total annual burden hours may not equal the product of the annual number of responses multiplied by the reporting burden per response.)

All responses to this notice will be summarized and included in the request for OMB approval. All comments will also become a matter of public record.

Done in Washington, DC, this 28th day of October 2015.
Kevin Shea,
Administrator, Animal and Plant Health Inspection Service.

[FR Doc. 2015-27967 Filed 11-2-15; 8:45 am]

BILLING CODE 3410-34-P